DEPARTMENT OF COMMERCE

National Oceanic and Atmospheric Administration

RIN 0648-XP52

Endangered and Threatened Species: Notice of Availability for Public Comment on Guidance for Monitoring the Recovery of Pacific Northwest Salmon and Steelhead Listed under the Federal Endangered Species Act

AGENCY: National Marine Fisheries Service (NMFS), National Oceanic and Atmospheric Administration (NOAA), Commerce.

ACTION: Notice of availability.

SUMMARY: The National Marine Fisheries Service's (NMFS) Northwest Region has drafted guidance on monitoring the recovery of Pacific Northwest salmon and steelhead listed under the Endangered Species Act (ESA). This draft Pacific Northwest monitoring guidance is intended to assist NMFS' recovery partners in Oregon, Washington, and Idaho in understanding the recovery monitoring needs under the ESA. NMFS' Northwest Region is soliciting public review and comment on the draft Pacific Northwest monitoring guidance.

DATES: All comments must be received no later than 5 p.m. Pacific Standard Time on [August 28, 2009.

ADDRESSES: Copies of the draft Pacific Northwest monitoring guidance are available on the Internet at: http://www.nwr.noaa.gov, or upon request (see FOR FURTHER INFORMATION CONTACT, below). You may submit comments on the draft Pacific Northwest monitoring guidance by any of the following methods:

E-mail: The mailbox address for submitting e-mail comments on the draft monitoring guidance is rme_guidance.nwr@noaa.gov. Please include in the subject line of the e-mail comment the identifier “Draft Pacific Northwest Monitoring Guidance.”

Mail: You may submit written comments and information to Dr. Scott Rumsey, NMFS, 1201 NE Lloyd Boulevard, Suite 1100, Portland, OR 97232. Please identify the comment as regarding the “Draft Pacific Northwest Monitoring Guidance.”

Hand Delivery/Courier: You may hand deliver written comments and information to NMFS, 1201 NE Lloyd Boulevard, Suite 1100, Portland, OR 97232. Business hours are 8 a.m. to 5 p.m., Monday through Friday, except Federal holidays. Please identify the comment as regarding the “Draft Pacific Northwest Monitoring Guidance.”

Fax: (503) 230-6893. Please identify the fax comment as regarding the “Draft Pacific Northwest Monitoring Guidance.”

FOR FURTHER INFORMATION CONTACT: Bruce Crawford, NMFS, Northwest Region, by phone at (360) 534-9348, or by e-mail at bruce.crawford@noaa.gov.

SUPPLEMENTARY INFORMATION:

Background

Section 4(c)(2) of the ESA requires that, at least every 5 years, the Secretary shall conduct a review of all ESA-listed species and determine whether any species should: (1) Be removed from such list; (2) be changed in status from an endangered species to a threatened species; or (3) be changed in status from a threatened species to an endangered species. In the Pacific Northwest, NMFS' reviews of the status of listed salmon and steelhead populations, and the extent to which the threats and other factors limiting the species' recovery have been addressed, are largely dependent upon monitoring information collected by state, tribal, and Federal co-managers. In an effort to provide more direction to agencies monitoring the status of ESA-listed salmon and steelhead and their habitats, NMFS' Northwest Region has drafted guidance on monitoring the recovery of listed salmonids in the Pacific Northwest. This draft Pacific Northwest monitoring guidance will assist NMFS' recovery partners in Oregon, Washington, and Idaho in understanding the recovery monitoring needs under the ESA, and the desired level of statistical certainty for the monitoring information they collect. The draft monitoring guidance includes recommended priorities for monitoring, data collection, and reporting of the viability of Pacific Northwest salmon and steelhead populations, threats to the species, and the ESA Section 4(a)(1) listing factors.

Information Solicited

NMFS' Northwest Region is soliciting public comment on the draft guidance for monitoring the recovery of ESA-listed salmon and steelhead in Idaho, Oregon, and Washington. Specifically, NMFS' Northwest Region requests comment on the recommendations and priorities proposed in the draft Pacific Northwest monitoring guidance. In particular, we would like input on the proposed confidence intervals for status and trends monitoring of adult and juveniles, as well as on the targets for the relative abundance of hatchery- and natural-origin fish in spawning populations.

Authority: 16 U.S.C. 1531 et seq.

Dated: June 23, 2009.
Angela Somma,
Chief, Division of Endangered Species, Office of Protected Resources, National Marine Fisheries Service.

[FR Doc. E9-15199 Filed 6-26-09; 8:45 am]

BILLING CODE 3510-22-S